NUCLEAR REGULATORY COMMISSION

[Docket Nos. 50-269, 50-270, 50-287]

Duke Energy Corporation; Oconee Nuclear Station, Units 1, 2, and 3; Environmental Assessment and Finding of No Significant Impact

The U.S. Nuclear Regulatory Commission (NRC) is considering issuance of an exemption from the requirements of Title 10 of the Code of Federal Regulations (10 CFR) § 50.44, 10 CFR part 50, Appendix A, General Design Criterion 41, and 10 CFR Part 50, Appendix E, Section VI for Facility Operating License Nos. DPR-38, DPR-47, and DPR-55, issued to the Duke Energy Corporation (the licensee), for operation of the Oconee Nuclear Station, Units 1, 2, and 3 (ONS), located in Seneca, South Carolina. The licensee requested the exemption by letter dated July 26, 2000.

Environmental Assessment

Identification of the Proposed Action

The proposed action would exempt the ONS from certain requirements of 10 CFR 50.44, 10 CFR part 50, Appendix A, General Design Criterion 41, and Part 10 CFR 50, Appendix E, Section VI pertaining to the hydrogen control system requirements (i.e., containment post-accident hydrogen monitors and recombiners) and remove them from the ONS design basis. The licensee's exemption request from the functional requirements for hydrogen monitoring is not being approved. This position is described in the safety evaluation for the associated exemption. Consequently, this environmental assessment only addresses the exemption from the requirements related to the recombiners and the removal of the recombiners from the ONS design basis.

The Need for the Proposed Action

The requested exemption to remove the requirements pertaining to recombiners would improve the safety focus at ONS during an accident and would represent a more effective and efficient method of maintaining adequate protection of public health and safety by simplifying the Emergency and Emergency Response Plan Procedures. This would reduce the operators' post-accident burden and allow them to give higher priority to more important safety functions following postulated plant accidents.

Environmental Impacts of the Proposed Action

The NRC has completed its evaluation of the proposed action and concludes, as set forth below, that there are no environmental impacts associated with the removal of the recombiners from the ONS design basis. The proposed action will not significantly increase the probability or consequences of accidents, no changes are being made in the types or amounts of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for ONS.

Agencies and Persons Consulted

In accordance with its stated policy, on July 2, 2001, the staff consulted with the South Carolina State official, Mr. Henry Porter of the Division of Waste Management, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 26, 2000. Documents may be examined, and/or copied for a fee, at the NRC's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room (PDR) Reference staff at 1-800-397-4209, 301-415-4737 or by e-mail to pdr@nrc.gov.

Dated at Rockville, Maryland, this 10th day of July 2001.
For the Nuclear Regulatory Commission.
David E. LaBarge,
Senior Project Manager, Section 1, Project Directorate II, Division of Licensing Project Management, Office of Nuclear Reactor Regulation.

[FR Doc. 01-17698 Filed 7-13-01; 8:45 am]

BILLING CODE 7590-01-P